DEPARTMENT OF ENERGY

Federal Energy Regulatory Commission

Combined Notice of Filings #1

Take notice that the Commission received the following electric corporate filings:

Docket Numbers: EC17-179-000.

Applicants: Hydro One Limited, Avista Corporation.

Description: Supplement to September 14, 2017 Joint Application for Authorization of Disposition of Assets and Merger Pursuant to Section 203 of the FPA of Hydro One Limited, et al.

Filed Date: 10/3/17.

Accession Number: 20171003-5171.

Comments Due: 5 p.m. ET 10/24/17.

Docket Numbers: EC18-1-000.

Applicants: Cottonwood Wind Project, LLC, Golden Hills North Wind, LLC, NextEra Energy Bluff Point, LLC.

Description: Application for Authorization Under Section 203 of the Federal Power Act and Request for Expedited Action of Cottonwood Wind Project, LLC, et. al.

Filed Date: 10/3/17.

Accession Number: 20171003-5148.

Comments Due: 5 p.m. ET 10/24/17.

Take notice that the Commission received the following electric rate filings:

Docket Numbers: ER18-19-000.

Applicants: Arizona Public Service Company.

Description: Tariff Cancellation: Cancellation of Service Agreement No. 348 to be effective 12/3/2017.

Filed Date: 10/3/17.

Accession Number: 20171003-5122.

Comments Due: 5 p.m. ET 10/24/17.

Docket Numbers: ER18-20-000.

Applicants: Public Service Company of New Mexico.

Description: Notice of Cancellation of Service Schedules B and C to the Interconnection Agreement of Public Service Company.

Filed Date: 10/3/17.

Accession Number: 20171003-5153.

Comments Due: 5 p.m. ET 10/24/17.

Docket Numbers: ER18-21-000.

Applicants: Niagara Mohawk Power Corporation.

Description: Notice of Cancellation of Prior Interconnection Service Agreement (No. 326) of Niagara Mohawk Power Corporation.

Filed Date: 10/3/17.

Accession Number: 20171003-5160.

Comments Due: 5 p.m. ET 10/24/17.

Take notice that the Commission received the following qualifying facility filings:

Docket Numbers: QF17-1422-000.

Applicants: Mound Solar Owner VIII, LLC.

Description: Refund Report of Mound Solar Owner VIII, LLC [Division 1].

Filed Date: 10/3/17.

Accession Number: 20171003-5145.

Comments Due: 5 p.m. ET 10/24/17.

Docket Numbers: QF17-1423-000.

Applicants: Mound Solar Owner VIII, LLC.

Description: Refund Report of Mound Solar Owner VIII, LLC [Division 2].

Filed Date: 10/3/17.

Accession Number: 20171003-5154.

Comments Due: 5 p.m. ET 10/24/17.

Docket Numbers: QF17-1424-000.

Applicants: Mound Solar Owner VIII, LLC.

Description: Refund Report of Mound Solar Owner VIII, LLC [Division 3].

Filed Date: 10/3/17.

Accession Number: 20171003-5152.

Comments Due: 5 p.m. ET 10/24/17.

Docket Numbers: QF17-1425-000.

Applicants: Mound Solar Owner IX, LLC.

Description: Refund Report of Mound Solar Owner IX, LLC [Kettering 1].

Filed Date: 10/3/17.

Accession Number: 20171003-5151.

Comments Due: 5 p.m. ET 10/24/17.

Docket Numbers: QF17-1426-000.

Applicants: Mound Solar Owner IX, LLC.

Description: Refund Report of Mound Solar Owner IX, LLC [Kettering 2].

Filed Date: 10/3/17.

Accession Number: 20171003-5150.

Comments Due: 5 p.m. ET 10/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2017.
Nathaniel J. Davis, Sr.,
Deputy Secretary.

[FR Doc. 2017-21838 Filed 10-10-17; 8:45 am]

BILLING CODE 6717-01-P